NATIONAL COUNCIL OF DISABILITY

Sunshine Act Meetings

Type: Quarterly Meeting.

Dates and Times: April 16, 2007, 10 a.m.-5 p.m. April 17, 2007, 9 a.m.-4 p.m.

Location: Crowne Plaza Hotel Atlanta-Buckhead, 3377 Peachtree Road, NE., Atlanta, Georgia.

Status: April 16, 2007, 10 a.m.-5 p.m.—Open. April 17, 2007, 9 a.m.-4 p.m.—Open. April 17, 2007, 4 p.m.-5 p.m.—Closed.

Agenda: Public Comments; Livable Communities/Best Practices Panel Presentation; Emergency Preparedness Panel Presentation; Reports from Council Members and the Acting Co-Executive Directors; Committee and Team Reports; Unfinished Business; New Business; Announcements; Adjournment.

Sunshine Act Meeting Contact: Mark S. Quigley, Director of Communications, NCD, 1331 F Street, NW., Suite 850, Washington, DC 20004; 202-272-2004 (voice), 202-272-2074 (TTY), 202-272-2022 (fax).

Agency Mission: NCD is an independent Federal agency making recommendations to the President and Congress to enhance the quality of life for all Americans with disabilities and their families. NCD is composed of 15 members appointed by the President and confirmed by the U.S. Senate.

Accommodations: Those needing reasonable accommodations should notify NCD immediately.

Language Translation: In accordance with E.O. 13166, Improving Access to Services for Persons with Limited English Proficiency, those people with disabilities who are limited English proficient and seek translation services for these meetings should notify NCD immediately.

Dated: April 5, 2007.
Mark S. Quigley,
Acting Co-Executive Director.

[FR Doc. 07-1751 Filed 4-5-07; 10:39 am]

BILLING CODE 6820-MA-M